FEDERAL COMMUNICATIONS COMMISSION

[FR ID 185692]

Deletion of Item From November 15, 2023 Open Meeting

November 13, 2023.

The following items were adopted by the Commission on November 13, 2023 and deleted from the list of items scheduled for consideration at the Wednesday, November 15, 2023, Open Meeting. The items were previously listed in the Commission's Sunshine Notice on Wednesday, November 8, 2023.

5 | WIRELESS TELECOMMUNICATIONS | TITLE: Amending Amateur Radio Rules for Greater Flexibility in Data Communications (WT Docket No. 16-239). SUMMARY: The Commission will consider a Report and Order and Further Notice of Proposed Rulemaking that would eliminate the symbol rate (also known as baud rate) limitation and establish a bandwidth limitation that would provide flexibility to use modern digital emissions, thereby promoting innovation and experimentation in the amateur service. The item would also propose removal of the baud rate limitation in several additional bands.
6 | WIRELINE COMPETITION | TITLE: Reducing Regulatory Requirements for Rural Provider of Long-Distance Access Service (WC Docket No. 22-407). SUMMARY: The Commission will consider a Declaratory Ruling and Memorandum Opinion and Order that would grant the Minnesota Independent Equal Access Corporation (MIEAC) relief from dominant carrier regulation with respect to its provision of centralized equal access (CEA) service, and regulate MIEAC as a non-dominant competitive LEC for this service going forward. In light of declining demand, intervening exchange access service regulatory reforms, and technological changes in the voice services marketplace generally, dominant carrier regulation of MIEAC's CEA service is no longer necessary to serve the public interest.

Federal Communications Commission.
Marlene Dortch,
Secretary.

[FR Doc. 2023-25518 Filed 11-17-23; 8:45 am]

BILLING CODE 6712-01-P